NUCLEAR REGULATORY COMMISSION

Yucca Mountain; Notice of Receipt and Availability of Application; Correction

AGENCY: U.S. Nuclear Regulatory Commission.

ACTION: Correction.

SUMMARY: This document corrects a notice appearing in the Federal Register on June 17, 2008 (73 FR 34348), that informs the public of the availability of a license application for a geologic repository to be located at Yucca Mountain in Nye County, Nevada with the U.S. Nuclear Regulatory Commission pursuant to section 114 of the Nuclear Waste Policy Act, as amended, 42 U.S.C. 10134, 10 CFR part 63 and 10 CFR 2.101. This action is necessary to correct an erroneous ADAMS accession number.

FOR FURTHER INFORMATION CONTACT: Brian Benney, Office of Nuclear Material Safety and Safeguards at 301-492-3193 or by e-mail at brian.benney@nrc.gov.

SUPPLEMENTARY INFORMATION: On page 34348, in the third column, in the fourth complete paragraph, in the 13th line, “ML081560408” is corrected to read “ML081560400”.

Dated at Rockville, Maryland, this 7th day of July, 2008.
For the U.S. Nuclear Regulatory Commission.
Lawrence E. Kokajko,
Director, Division of High-Level Waste Repository Safety, Office of Nuclear Material Safety and Safeguards.

[FR Doc. E8-16225 Filed 7-15-08; 8:45 am]

BILLING CODE 7590-01-P